DEFENSE NUCLEAR FACILITIES SAFETY BOARD

Sunshine Act Meeting

Pursuant to the provisions of the “Government in the Sunshine Act” (5 U.S.C. 552b), notice is hereby given of the Defense Nuclear Facilities Safety Board's (Board) meeting cancellation.

Federal Register Citation of Previous Announcement: 69 FR 7911 (February 20, 2004).

Previously Announced Time and Date of the Meeting: 9:30 a.m., February 27, 2004.

Changes in the Meeting: On February 23, 2004, the Secretary of Energy suspended the proposed rule in order to seek further consultation from the Board and other interested stakeholders. For this reason, the Board is canceling the February 27, 2004 public meeting previously scheduled to hear testimony from Department of Energy (DOE) officials regarding the notice of proposed rulemaking on worker safety and health.

CONTACT PERSON FOR MORE INFORMATION: Kenneth M. Pusateri, General Manager, Defense Nuclear Facilities Safety Board, 625 Indiana Avenue, NW., Suite 700, Washington, DC 20004-2901, (800) 788-4016. This is a toll-free number.

Dated: February 24, 2004.
John T. Conway,
Chairman.

[FR Doc. 04-4363 Filed 2-24-04; 11:56 am]

BILLING CODE 3670-01-M